DEPARTMENT OF TRANSPORTATION

Federal Aviation Administration

14 CFR Part 39

[Docket No. FAA-2020-0716; Product Identifier 2019-CE-009-AD; Amendment 39-21191; AD 2020-16-07]

RIN 2120-AA64

Airworthiness Directives; Pacific Aerospace Limited Airplanes

AGENCY: Federal Aviation Administration (FAA), DOT.

ACTION: Final rule; request for comments.

SUMMARY: The FAA is adopting a new airworthiness directive (AD) for Pacific Aerospace Limited Model 750XL airplanes. This AD results from mandatory continuing airworthiness information (MCAI) issued by the aviation authority of another country to identify and correct an unsafe condition on an aviation product. The MCAI identifies the unsafe condition as nose landing gear (NLG) and main landing gear (MLG) attachment bolts without dual retaining devices. The FAA is issuing this AD to require actions to address the unsafe condition on these products.

DATES: This AD is effective September 8, 2020.

The Director of the Federal Register approved the incorporation by reference of a certain publication listed in the AD as of September 8, 2020.

The FAA must receive comments on this AD by October 1, 2020.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact Pacific Aerospace Limited, Airport Road, Hamilton, Private Bag 3027, Hamilton 3240, New Zealand; telephone: +64 7 843 6144; facsimile: +64 7 843 6134; email: pacific@aerospace.co.nz; internet: https://www.aerospace.co.nz. You may view this referenced service information at the FAA, Airworthiness Products Section, Operational Safety Branch, 901 Locust, Kansas City, Missouri 64106. For information on the availability of this material at the FAA, call (816) 329-4148. It is also available on the internet at https://www.regulations.gov by searching for Docket No. FAA-2020-0716.

Examining the AD Docket

You may examine the AD docket on the internet at https://www.regulations.gov by searching for and locating Docket No. FAA-2020-0716; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Mike Kiesov, Aerospace Engineer, FAA, Small Airplane Standards Branch, 901 Locust, Room 301, Kansas City, Missouri 64106; telephone: (816) 329-4144; fax: (816) 329-4090; email: mike.kiesov@faa.gov.

SUPPLEMENTARY INFORMATION:

Discussion

The Civil Aviation Authority (CAA), which is the aviation authority for New Zealand, has issued AD DCA/750XL/32B, dated February 7, 2019 (referred to after this as “the MCAI”), to correct an unsafe condition for Pacific Aerospace Limited Model 750XL airplanes. In its notification of the MCAI, the CAA states:

DCA/750XL/32B with effective date 7 February 2019 is prompted by several reports of finding loose nose landing gear attachment lock nuts and pal nuts. This [CAA] AD revised to mandate Pacific Aerospace Mandatory Service Bulletin (MSB) PACSB/XL/105 issue 4, dated 19 December 2018, which introduces alternate bolts for [part number] P/N NAS6606D63 and NAS6606D68.

The MCAI is part of an extensive evaluation and investigation by the New Zealand CAA on the Pacific Aerospace Model 750XL. The unsafe condition results from a production quality issue where the MLG and NLG attachment bolts may not have the required dual retaining devices installed. Therefore, the MCAI requires an inspection of the MLG and the NLG. The NLG requires the installation of a castellated nyloc locking nut and a split pin. The MLG requires the inspection and installation of Palnuts on any attachment bolts that do not have a Palnut installed. This condition, if not detected and corrected, could lead to failure of the NLG and MLG.

You may examine the MCAI on the internet at https://www.regulations.gov by searching for and locating Docket No. FAA-2020-0716.

Differences Between the MCAI and This AD

The MCAI allows a licensed pilot rated for this airplane to do daily visual inspections of the nose landing gear lower bolts and clamp for security for up to 165 hours time-in-service until the terminating corrective action is performed. The FAA's regulations do not allow pilots to perform maintenance, which includes inspections, on U.S.-certificated airplanes. Therefore, this AD does not include the daily inspection requirement and requires a shorter compliance time for the terminating corrective action to address the unsafe condition in a timely manner.

Related Service Information Under 1 CFR Part 51

The FAA reviewed Pacific Aerospace Mandatory Service Bulletin PACSB/XL/105, Issue 4, dated December 19, 2018. The service information contains procedures for inspecting the NLG lower bolts and clamp for security, replacing the NLG locking nut and Palnut with a castellated nyloc locking nut and split pin, and inspecting the MLG attachment bolts and installing Palnuts as necessary. This service information is reasonably available because the interested parties have access to it through their normal course of business or by the means identified in the ADDRESSES section.

Other Related Information

The FAA also reviewed Pacific Aerospace Drawing BOL6603 THRU 6620, dated December 19, 2018. This drawing contains additional information related to fabrication of the required part number bolts for the NLG.

FAA's Determination and Requirements of the AD

This product has been approved by the aviation authority of another country, and is approved for operation in the United States. Pursuant to our bilateral agreement with this State of Design Authority, they have notified us of the unsafe condition described in the MCAI and service information referenced above. The FAA is issuing this AD because it evaluated all information provided by the State of Design Authority and determined the unsafe condition exists and is likely to exist or develop on other products of the same type design.

FAA's Determination of the Effective Date

An unsafe condition exists that requires the immediate adoption of this AD. The risk assessment received by the FAA, and reconfirmed in July of 2020, indicates that urgent action is required. The FAA has found that the risk to the flying public justifies waiving notice and comment prior to adoption of this rule because without the required dual retaining devices, the NLG and the MLG could fail and result in reduced control on the ground and lead to a runway excursion. Because this AD does not include the daily inspections, the FAA finds that compliance is necessary within 20 hours time-in-service or 30 days, whichever occurs first, to address the unsafe condition. Therefore, the FAA finds good cause that notice and opportunity for prior public comment are impracticable. In addition, for the reasons stated above, the FAA finds that good cause exists for making this amendment effective in less than 30 days.

Comments Invited

This AD is a final rule that involves requirements affecting flight safety and was not preceded by notice and an opportunity for public comment. However, the FAA invites you to send any written data, views, or arguments about this final rule. Send your comments to an address listed under the ADDRESSES section. Include the Docket Number FAA-2020-0716 and Product Identifier 2019-CE-009-AD at the beginning of your comments. The FAA will consider all comments received by the closing date and may amend this final rule because of those comments.

Except for Confidential Business Information (CBI) as described in the following paragraph, and other information as described in 14 CFR 11.35, the FAA will post all comments received, without change, to https://www.regulations.gov, including any personal information you provide. The FAA will also post a report summarizing each substantive verbal contact we receive about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mike Kiesov, Aerospace Engineer, FAA, Small Airplane Standards Branch, 901 Locust, Room 301, Kansas City, Missouri 64106. Any commentary that the FAA receives which is not specifically designated as CBI will be placed in the public docket for this rulemaking.

Costs of Compliance

The FAA estimates that this AD will affect 22 products of U.S. registry. The FAA also estimates that it would take about 5 work-hours per product to comply with the basic requirements of this AD. The average labor rate is $85 per work-hour. Required parts would cost about $20 per product.

Based on these figures, the FAA estimates the cost of the AD on U.S. operators to be $9,790, or $445 per product.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-16-07 Pacific Aerospace Limited: Amendment 39-21191; Docket No. FAA-2020-0716; Product Identifier 2019-CE-009-AD.

(a) Effective Date

This airworthiness directive (AD) becomes effective September 8, 2020.

(b) Affected ADs

None.

(c) Applicability

This AD applies to Pacific Aerospace Limited Model 750XL airplanes, serial numbers (S/Ns) up to and including 216, 220, 8001, and 8002, certificated in any category.

(d) Subject

Air Transport Association of America (ATA) Code 32: Landing Gear.

(e) Reason

This AD was prompted by mandatory continuing airworthiness information (MCAI) originated by an aviation authority of another country to identify and correct an unsafe condition on an aviation product. The MCAI identifies the unsafe condition as nose landing gear (NLG) and main landing gear (MLG) attachment bolts without dual retaining devices. The FAA is issuing this AD to prevent the NLG and MLG attachment bolts from detaching, which if not corrected could lead to failure of the landing gear.

(f) Actions and Compliance

Unless already done, comply with this AD within 20 hours time-in-service after September 8, 2020 (the effective date of this AD) or within 30 days after September 8, 2020 (the effective date of this AD), whichever occurs first.

(1) Replace each NLG upper and lower attachment lock nut and Palnut with castellated nyloc locking nuts and spring/split pins by following steps 6 and 8 in Part B-Accomplishment Instructions (Nose Landing Gear) of Pacific Aerospace Mandatory Service Bulletin PACSB/XL/105, Issue 4, dated December 19, 2018 (PACSB/XL/105, Issue 4).

(2) For airplanes with a S/N up to and including 185, except S/N 177 and except airplanes with modification PAC/XL/0448: inspect the upper and lower attachment bolts on both MLGs for the installation of Palnuts (four on each MLG) as depicted in figure 6 in Part C—Accomplishment Instructions (Main Landing Gear) of PACSB/XL/105, Issue 4.

(i) If Palnuts are installed in all eight locations (four on each MLG), no further action is required.

(ii) If a Palnut is not installed on an MLG attachment bolt, before further flight, check the torque of the attachment bolt and install a Palnut by following steps 5 through 7 in Part C-Accomplishment Instructions (Main Landing Gear) of PACSB/XL/105, Issue 4.

(g) Alternative Methods of Compliance (AMOCs)

The Manager, Small Airplane Standards Branch, FAA, has the authority to approve AMOCs for this AD, if requested using the procedures found in 14 CFR 39.19. Send information to ATTN: Mike Kiesov, Aerospace Engineer, FAA, Small Airplane Standards Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(h) Related Information

Refer to MCAI Civil Aviation Authority AD No. DCA/750XL/32B, dated February 7, 2019, for related information. You may also refer to Pacific Aerospace Drawing BOL6603 THRU 6620, Issue A1, dated December 19, 2018, for additional information related to this AD. You may examine the MCAI on the internet at https://www.regulations.gov by searching for and locating Docket No. FAA-2020-0716.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pacific Aerospace Mandatory Service Bulletin PACSB/XL/105, Issue 4, dated December 19, 2018.

(ii) [Reserved]

(3) For Pacific Aerospace Limited service information identified in this AD, contact Pacific Aerospace Limited, Airport Road, Hamilton, Private Bag 3027, Hamilton 3240, New Zealand; phone: +64 7843 6144; fax: +64 7843 6134; email: pacific@aerospace.co.nz; internet: https://www.aerospace.co.nz.

(4) You may view this service information at the FAA, Airworthiness Products Section, Operational Safety Branch, 901 Locust, Kansas City, Missouri 64106. For information on the availability of this material at the FAA, call (816) 329-4148. It is also available on the internet at https://www.regulations.gov by searching for and locating Docket No. FAA-2020-0716.

(5) You may view this service information that is incorporated by reference at the National Archives and Records Administration (NARA). For information on the availability of this material at NARA, email: fedreg.legal@nara.gov, or go to: https://www.archives.gov/federal-register/cfr/ibr-locations.html.

Issued on July 29, 2020.
Gaetano A. Sciortino,
Deputy Director for Strategic Initiatives, Compliance & Airworthiness Division, Aircraft Certification Service.

[FR Doc. 2020-17864 Filed 8-14-20; 8:45 am]

BILLING CODE 4910-13-P